DEPARTMENT OF ENERGY

Federal Energy Regulatory Commission

[Docket No. CP08-1-000]

MarkWest New Mexico, L.P.; Notice of Request Under Blanket Authorization

October 10, 2007.

Take notice that on October 1, 2007, MarkWest New Mexico, L.P. (MarkWest), 1515 Arapahoe Street, Tower 2, Suite 700, Denver, Colorado 80202-2126, filed in Docket No. CP08-1-000, a prior notice request pursuant to sections 157.205 and 157.210 of the Federal Energy Regulatory Commission's regulations under the Natural Gas Act for authorization to construct, own, operate, and maintain approximately 3.16 miles of new 16-inch diameter pipeline and appurtenant facilities on its existing natural gas transmission mainline, located in Lea County, New Mexico, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

MarkWest states that its existing natural gas transmission system consists of approximately five miles of 10- and 12-inch diameter pipeline facilities, which provide firm transportation service to two power plants owned by Southwestern Public Service Company. MarkWest proposes to construct approximately 1.45 miles of 16-inch diameter pipeline parallel to and looping the existing 10- and 12-inch diameter mainline and approximately 1.71 miles of additional 16-inch diameter pipeline to provide firm transportation service to a third power plant that is to be constructed by Lea Power Partners, LLC, located in Lea County, New Mexico. MarkWest asserts that the expansion facilities will increase the maximum capacity of MarkWest's system from 166 MMcf/d to 276 MMcf/d and will include the construction of a new interconnection with Northern Natural Gas Company. MarkWest estimates the cost of construction to be $3.2 million.

Any questions regarding the application should be directed to Danny Dollar, MarkWest New Mexico, L.P., 1515 Arapahoe Street, Tower 2, Suite 700, Denver, Colorado 80202-2126, or call at (1-800) 852-9226.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a)(1)(iii) and the instructions on the Commission's Web site (www.ferc.gov) under the “e-Filing” link.

Kimberly D. Bose,
Secretary.

[FR Doc. E7-20395 Filed 10-16-07; 8:45 am]

BILLING CODE 6717-01-P